DEPARTMENT OF THE INTERIOR

National Park Service

Notice of Inventory Completion for Native American Human Remains and Associated Funerary Objects in the Possession of the Nebraska State Historical Society, Lincoln, NE

AGENCY: National Park Service.

ACTION: Notice.

Notice is hereby given in accordance with provisions of the Native American Graves Protection and Repatriation Act (NAGPRA), 43 CFR 10.9, of the completion of an inventory of human remains and associated funerary objects in the possession of the Nebraska State Historical Society, Lincoln, NE.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains and associated funerary objects was made by Nebraska State Historical Society professional staff in consultation with representatives of the Cheyenne-Arapaho Tribes of Oklahoma; the Northern Cheyenne Tribe of the Northern Cheyenne Indian Reservation, Montana; and the Rosebud Sioux Tribe of the Rosebud Indian Reservation, South Dakota.

In 1992, human remains representing one individual were recovered from site 25DW211, Dawes County, NE, by Nebraska State Historical Society staff archeologist Terry Steinacher at the request of the landowner. No known individual was identified. The 636 associated funerary objects are glass beads, leather fragments, buttons, tin can fragments, and a comb.

From archeological evidence and skeletal morphology, the Nebraska State Historical Society has determined that the individual is Native American from the 19th century. Cranial measurements of the individual, which are consistent with known Cheyenne populations, and historical documents and tribal traditions, which place the Cheyenne tribe in this territory during the mid- and late 19th century, indicate that the human remains are culturally affiliated with the Cheyenne-Arapaho Tribes of Oklahoma and the Northern Cheyenne Tribe of the Northern Cheyenne Indian Reservation, Montana.

Based on the above-mentioned information, officials of the Nebraska State Historical Society have determined that, pursuant to 43 CFR 10.2 (d)(1), the human remains listed above represent the physical remains of one individual of Native American ancestry. Officials of the Nebraska State Historical Society also have determined that, pursuant to 43 CFR 10.2 (d)(2), the 636 objects listed above are reasonably believed to have been placed with or near individual human remains at the time of death or later as part of the death rite or ceremony. Lastly, officials of the Nebraska State Historical Society have determined that, pursuant to 43 CFR 10.2 (e), there is a relationship of shared group identity that can be reasonably traced between these Native American human remains and associated funerary objects and the Cheyenne-Arapaho Tribes of Oklahoma and the Northern Cheyenne Tribe of the Northern Cheyenne Indian Reservation, Montana.

This notice has been sent to officials of the Cheyenne-Arapaho Tribes of Oklahoma; the Northern Cheyenne Tribe of the Northern Cheyenne Indian Reservation, Montana; and the Rosebud Sioux Tribe of the Rosebud Indian Reservation, South Dakota. Representatives of any other Indian tribe that believes itself to be culturally affiliated with these human remains should contact Rob Bozell, Associate Director, Nebraska State Historical Society, 1500 R Street, P.O. Box 82554, Lincoln, NE 68501-2554, telephone (402) 471-4789, before February 26, 2001. Repatriation of the human remains and associated funerary objects to the Cheyenne-Arapaho Tribes of Oklahoma and the Northern Cheyenne Tribe of the Northern Cheyenne Indian Reservation, Montana may begin after that date if no additional claimants come forward.

Dated: January 19, 2001.
John Robbins,
Assistant Director, Cultural Resources Stewardship and Partnerships.

[FR Doc. 01-2322 Filed 1-25-01; 8:45 am]

BILLING CODE 4310-70-F